DEPARTMENT OF HEALTH AND HUMAN SERVICES

Centers for Disease Control and Prevention

[Program Announcement 04125]

The Association of State and Territorial Chronic Disease Program Directors; Notice of Intent To Fund Single Eligibility Award

A. Purpose

The Centers for Disease Control and Prevention (CDC) announces the intent to fund fiscal year (FY) 2004 funds for a cooperative agreement program to support the establishment of a national initiative to develop and implement systems and procedures that result in the inclusion of comprehensive chronic disease prevention and control concepts in the planning and delivery of health promotion and health care services at the state level. The Catalog of Federal Domestic Assistance number for this program is 93.945.

B. Eligible Applicant

Assistance will be provided only to the Association of State and Territorial Chronic Disease Program Directors (CDD). No other applications are solicited.

The CDD is the officially designated organization to advise and represent the interest of state health officials in comprehensive chronic disease prevention and control and health promotion activities. Because of its relationship with ASTHO and all State and Territorial chronic disease prevention and health promotion programs, the CDD can provide state and national leadership for developing programs to prevent and control chronic disease, including behaviors and conditions that contribute to the development of chronic disease conditions. The CDD is uniquely capable of analyzing, advising, and fulfilling liaison responsibilities for comprehensive chronic disease prevention and control activities in such broad-based specialties as aging, arthritis, cancer, cardiovascular disease, diabetes, diabetes health education, managed care, nutrition, osteoporosis, physical activity, risk reduction, and tobacco use. The CDD membership is multidisciplinary, including physicians, nurses, health educators, social workers, nutritionists, epidemiologists, administrators, and others. CDD has served as a policy development and capacity-building organization for state chronic disease matters since 1988 and has as one of its major objectives, the sharing of information within and between State health departments.

The CDD is responsible for developing, implementing and evaluating state-based chronic disease prevention and health promotion programs, therefore they are uniquely qualified to conduct and fulfill the national requirements and focus of this program announcement. The CDD accomplishes its mission by disseminating information on chronic disease program needs and services, as well as recommending and promoting improved policies and programs. The CDD also provides consultation and guidance to states in the establishment of statewide systems of coordinated population-based preventions. All of these activities are accomplished through cooperation and collaboration with national, state, and local partners in the public and private sectors.

Through the work conducted under this Program Announcement, CDC will be in a position to promote and foster an even greater collaboration with public and private health care providers and state prevention programs.

C. Funding

Approximately $2,200,000 is available in FY 2004 to fund this award. It is expected that the award will begin on or before September 1, 2004, and will be made for a 12-month budget period within a project period of up to 5 years. Funding estimates may change.

D. Where To Obtain Additional Information

For general comments or questions about this announcement, contact: Technical Information Management, CDC Procurement and Grants Office, 2920 Brandywine Road, Atlanta, GA 30341-4146, telephone: 770-488-2700.

For technical questions about this program, contact: John M. Korn, Project Officer, Division of Adult and Community Health, National Center for Chronic Disease Prevention and Health Promotion, 4770 Buford Highway, NE., MS K30, Atlanta, GA 30341, telephone: 770-488-5427, e-mail: JMK3@cdc.gov.

Dated: July 2, 2004.
Alan Kotch,
Acting Director, Procurement and Grants Office, Centers for Disease Control and Prevention.

[FR Doc. 04-15598 Filed 7-8-04; 8:45 am]

BILLING CODE 4163-18-P